DEPARTMENT OF THE NAVY

Notice of Change in Disposal of Buildings and Land at Closed Military Installation; Former Naval Station Puget Sound (Sand Point), Seattle, WA

AGENCY: Department of the Navy, DOD.

ACTION: Notice.

SUMMARY: This Notice provides information on the surplus property at the former Naval Station Puget Sound (Sand Point), Seattle, Washington.

SUPPLEMENTARY INFORMATION: In 1991, Naval Station Puget Sound (Sand Point), Seattle, Washington, was designated for closure pursuant to the Defense Base Closure and Realignment Act of 1990, Public Law 101-510, as amended. On September 20, 1995, approximately 126 acres of land and facilities, located at Sand Point were determined surplus to the needs of the federal Government and available for use by state and local governments, representatives of the homeless and other interested parties. Approximately 11 acres were designated to be a federal transfer to the National Oceanic and Atmospheric Administration (NOAA). NOAA declined the transfer and subsequently the City of Seattle requested the property for park and recreation purposes and submitted an application for the property under the Federal Lands-to-Parks Program of the National Park Service.

Surplus Property Description

The following is a listing of the additional land and facilities at the former Naval Station Puget Sound (Sand Point), Seattle, Washington, that have been declared surplus to the needs of the federal Government:

Land

Approximately 11 acres of improved and unimproved fee simple land at the former Naval Station Puget Sound (Sand Point), Seattle, Washington, located in King County, in the northeastern portion of the City of Seattle, Washington. Area is immediately available.

Buildings

The following is a summary of the facilities located on the above described land.

— Warehouse/storage facilities (1 structure). Comments: Approx. 115,000 square feet.

— Miscellaneous paved areas.

— Utility facilities. Comments: Electrical, steam, water, sewage

FOR FURTHER INFORMATION CONTACT: Richard A. Engel, Director, Department of the Navy, Real Estate Operations Division, Naval Facilities Engineering Command, 1322 Patterson Ave. SE, Suite 1000, Washington Navy Yard, DC 20374-5065, telephone (202) 685-9203 or Mike Brady, Director, Real Estate, Engineering Field Activity, Northwest, Naval Facilities Engineering Command, 19917 7th Avenue NE, Poulsbo, WA 98370-7570, telephone (360) 396-0908.

Dated: April 11, 2000.
J. L. Roth,
Lieutenant Commander, Judge Advocate General's Corps, U.S. Navy, Federal Register Liaison Officer.

[FR Doc. 00-9949 Filed 4-20-00; 8:45 am]

BILLING CODE 3810-FF-P